DEPARTMENT OF THE INTERIOR

Fish and Wildlife Service

Information Collection To Be Submitted to the Office of Management and Budget (OMB) for Approval Under the Paperwork Reduction Act; Special Use Permit Applications on National Wildlife Refuges Outside Alaska

AGENCY: Fish and Wildlife Service, Interior.

ACTION: Notice; request for comments.

SUMMARY: We will submit the collection of information listed below to OMB for approval under the provisions of the Paperwork Reduction Act of 1995. You may obtain copies of specific information collection requirements and explanatory material by contacting our Information Collection Clearance Officer at the address or phone number listed below.

DATES: You must submit comments on or before September 14, 2004.

ADDRESSES: Send your comments on the requirement to the Information Collection Clearance Officer, U.S. Fish and Wildlife Service, 4401 N. Fairfax Drive, Suite 222, Arlington, Virginia 22203; (703) 358-2269 (fax); or Hope_Grey@fws.gov (e-mail).

FOR FURTHER INFORMATION CONTACT: To request a copy of the information collection request, explanatory information or related forms, contact Hope Grey at (703) 358-2482 or electronically to Hope_Grey@fws.gov.

SUPPLEMENTARY INFORMATION: The Office of Management and Budget (OMB) regulations at 5 CFR 1320, which implement provisions of the Paperwork Reduction Act of 1995 (44 U.S.C. 3501 et seq.), require that interested parties and affected agencies have an opportunity to comment on information collection and recordkeeping activities (see CFR 1380.8(d)). The U.S. Fish and Wildlife Service (we, or the Service) plans to submit a request to OMB to renew its approval of a collection of information related to special use permit applications on national wildlife refuges outside of Alaska. The collection is currently approved under OMB control number 1018-0102, which expires November 30, 2004. We are requesting a 3-year term of approval for these collection activities.

Federal agencies may not conduct or sponsor, and a person is not required to respond to, a collection of information unless it displays a currently valid OMB control number.

The National Wildlife Refuge System Improvement Act of 1997 that amends the National Wildlife Refuge Administration Act of 1966 (16 U.S.C. 668dd-ee) requires that we authorize economic privileges on any national wildlife refuge by permit only when the activity will be compatible with and contribute to refuge purposes (50 CFR 29.21). We will provide the permit applications as requested by interested citizens. We will use information provided on the required written forms and/or verbal applications to ensure that the applicant is eligible for the permit. We make provision in our general refuge regulations for public entry for specialized purposes, including economic activities such as the operation of guiding and other visitor services on refuges by concessionaires or cooperators under the appropriate legal instrument or special use permits (50 CFR 25.41, 25.61, 26.36, 27.71, 27.91, 27.97, 29.1, 29.2, 30.11, 31.2, 31.13, 31.14, and 31.16). These regulations provide the authorities and procedures for allowing permits on refuges outside of Alaska.

We use this permit to authorize such items farming operations (haying and grazing, 50 CFR 29.2), beneficial management tools that we use to provide the best habitat possible on some refuges (50 CFR 30.11, 31.14, 31.16), recreational visitor service operations (50 CFR 25.41 and 25.61), commercial filming (50 CFR 27.71), other commercial activities (50 CFR 29.1), research, and other noncommercial activities (50 CFR 26.36). We will issue permits for a specific period as determined by the type and location of the use or visitor service provided.

Title: Special Use Permit Applications on National Wildlife Refuges Outside Alaska.

OMB Control Number: 1018-0102.

Service Form Number: 3-1383.

Frequency of Collection: On occasion.

Description of Respondents: Individuals and households; business and other for-profit organizations; nonprofit institutions; farms; and State, local or tribal governments.

Total Annual Responses: We have 528 national wildlife refuges and 37 wetland management districts outside the State of Alaska. We anticipate that each unit will authorize approximately 25 permits each year. This is a total of 14,125 permits.

Total Annual Burden: We estimate that it takes an hour to complete the application requirements. Therefore the annual burden estimate in hours is 14,125.

Your comments are invited on: (1) Whether this collection of information is necessary for us to properly perform our functions, including whether this information will have practical utility; (2) the accuracy of our estimates of burden, including the validity of the methodology and assumptions we use; (3) ways to enhance the quality, utility, and clarity of the information we are proposing to collect; and (4) ways to minimize the burden of the collection of information on those who are to respond, including through the use of appropriate automated, electronic, mechanical, or other technological collection techniques or other forms of information technology.

Dated: July 8, 2004.
Anissa Craghead,
Service Information Collection Officer.

[FR Doc. 04-16218 Filed 7-15-04; 8:45 am]

BILLING CODE 4310-55-P